DEPARTMENT OF ENERGY

Federal Energy Regulatory Commission

[Docket Nos. CP09-35-000; PF07-13-000]

Palomar Gas Transmission, LLC; Notice of Application

December 29, 2008.

Take notice that on December 11, 2008, as revised on December 12, 2008, Palomar Gas Transmission, LLC (Palomar) filed with the Federal Energy Regulatory Commission (Commission) an application under section 7 of the Natural Gas Act for a Certificate of Public Convenience and Necessity authorizing the construction, ownership and operation of the Palomar gas transmission system, all as more fully set forth in the application which is on file with the Commission and open to public inspection.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 420-5589.

On August 30, 2007, the Commission staff granted Palomar's request to utilize the Pre-Filing process and assigned Docket No. PF07-13-000 to staff activities involving the proposed Project. Now, as of the filing of the December 11, 2008 application, the Pre-Filing Process for this project has ended. From this time forward, this proceeding will be conducted in Docket No. CP09-35-000 as noted in the caption of this Notice.

Any questions regarding this application should be directed to: John A. Roscher, Director, Rates and Regulatory Affairs, Palomar Gas Transmission, LLC, 1400 SW., Fifth Avenue, Suite 900, Portland, OR 97201; Tel: (503) 833-4254.

Palomar is a wholly owned subsidiary of Palomar Gas Holdings, LLC, a Delaware limited liability company, which is owned fifty percent (50%) by Gas Transmission Northwest Corporation (GTN) and fifty percent (50%) by Northwest Natural Gas Company (NW Natural). Palomar requests authorization to construct and operate a 36-inch-diameter, 216.9-mile-long natural gas transmission mainline; a 24-inch-diameter, 3.8-mile-long lateral line, three meter stations and appurtenant facilities to serve Oregon, the Pacific Northwest, and other parts of the western United States.

As proposed, the Palomar Project will have a design flow capacity of up to 1.3 billion cubic feet (Bcf) per day of natural gas eastbound and 98 million cubic feet (MMcf) per day of natural gas westbound. Palomar will be capable of transporting natural gas west from the existing GTN mainline pipeline system northwest of Madras in Wasco County, Oregon to NW Natural's local gas distribution system near Molalla, which provides access to NW Natural's Mist Storage Facility as well as NW Natural's distribution infrastructure. The Palomar Project will also be designed to transport gas east from an interconnection with the proposed Bradwood Landing LNG Terminal in Clatsop County, Oregon. Gas supply from the Bradwood Landing LNG Terminal could be shipped to points along the Palomar mainline—such as NW Natural's system—and to the GTN pipeline where it can serve markets in the northwest and other parts of the western United States.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: January 30, 2009.

Kimberly D. Bose,
Secretary.

[FR Doc. E8-31313 Filed 1-2-09; 8:45 am]

BILLING CODE 6717-01-P